DEPARTMENT OF THE INTERIOR

National Park Service

Notice of Intent to Repatriate Cultural Items: The Public Museum, Grand Rapids, MI

AGENCY: National Park Service, Interior.

ACTION: Notice.

Notice is here given in accordance with the Native American Graves Protection and Repatriation Act (NAGPRA), 25 U.S.C. 3005, of the intent to repatriate cultural items in the possession of The Public Museum, Grand Rapids, MI, that meet the definition of “unassociated funerary objects” under 25 U.S.C. 3001.

This notice is published as part of the National Park Service's administrative responsibilities under NAGPRA, 25 U.S.C. 3003 (d)(3). The determinations in this notice are the sole responsibility of the museum, institution, or Federal agency that has control of the cultural items. The National Park Service is not responsible for the determinations in this notice.

A detailed assessment of the unassociated funerary objects was made by The Public Museum's professional staff in consultation with the Santa Ynez Band of Chumash Mission Indians of the Santa Ynez Reservation, California.

In 1909, The Public Museum purchased three cultural items from Dr. J.W. Velie. The donor's records stated that the cultural items had been removed from burial mounds in the Santa Barbara vicinity, CA. Any human remains that may have been removed from the burial mounds were not part of the 1909 Velie acquisition. The three unassociated funerary objects are two steatite stone bowls and one stone mortar.

Museum documentation indicates that the cultural items were recovered from graves, and the types of items are consistent with other funerary objects found in the Santa Barbara area during the occupation of the Santa Ynez Band of Chumash Mission Indians of the Santa Ynez Reservation, California.

Officials of The Public Museum have determined that, pursuant to 25 U.S.C. 3001 (3)(B), the three cultural items described above are reasonably believed to have been placed with or near individual human remains at the time of death or later as part of the death rite or ceremony and are believed, by a preponderance of the evidence, to have been removed from specific burial sites of Native American individuals. Officials of The Public Museum also have determined that, pursuant to 25 U.S.C. 3001 (2), there is a relationship of shared group identity that can be reasonably traced between the unassociated funerary objects and the Santa Ynez Band of Chumash Mission Indians of the Santa Ynez Reservation, California.

Representatives of any other Indian tribe that believes itself to be culturally affiliated with the unassociated funerary objects should contact Marilyn Merdzinski, Director of Collections and Preservation, The Public Museum, 272 Pearl St. NW., Grand Rapids, MI 49504, telephone (616) 456-3521, before September 24, 2009. Repatriation of the unassociated funerary objects to the Santa Ynez Band of Chumash Mission Indians of the Santa Ynez Reservation, California may proceed after that date if no additional claimants come forward.

The Public Museum is responsible for notifying the Santa Ynez Band of Chumash Mission Indians of the Santa Ynez Reservation, California that this notice has been published.

Dated: July 9, 2009
Sherry Hutt,
Manager, National NAGPRA Program.

[FR Doc. E9-20488 Filed 8-24-09; 8:45 am]

BILLING CODE 4312-50-S